SECURITIES AND EXCHANGE COMMISSION

[File No. 500-1]

In the Matter of UCAP, Inc.; Order of Suspension of Trading

July 27, 2005.

It appears to the Securities and Exchange Commission that there is a lack of current and accurate information concerning the securities of UCAP, Inc. because the company has failed to file timely periodic reports with the Commission in violation of Section 13(a) of the Securities Exchange Act of 1934, since the period ended March 31, 2003.

The Commission is of the opinion that the public interest and the protection of investors require a suspension of trading in the securities of UCAP, Inc.

Therefore, it is ordered, pursuant to Section 12(k) of the Securities Exchange Act of 1934, that trading in UCAP, Inc. is suspended for the period from 9:30 a.m. EDT, July 27, 2005 through 11:59 p.m. EDT, on August 9, 2005.

By the Commission.
Jonathan G. Katz,
Secretary.

[FR Doc. 05-15121 Filed 7-27-05; 12:15 pm]

BILLING CODE 8010-01-P